DEPARTMENT OF AGRICULTURE

[Doc No. AMS-FGIS-19-0097]

Opportunity for Designation in the Cedar Rapids, Iowa, Area; Request for Comments on the Official Agency Servicing This Area

AGENCY: Agricultural Marketing Service.

ACTION: Notice.

SUMMARY: The designation of the official agency listed below will end on June 30, 2020. We are asking persons or governmental agencies interested in providing official services in the area presently served by this agency to submit an application for designation. In addition, we are asking for comments on the quality of services provided by the following designated agency: Mid-Iowa Grain Inspection, Inc. (Mid-Iowa).

DATES: Applications and comments must be received by March 11, 2020.

ADDRESSES: Submit applications and comments concerning this notice using the following methods:

• To apply for Designation: Use FGISonline (https://fgisonline.ams.usda.gov) and then click on the Delegations/Designations and Export Registrations (DDR) link. You will need to obtain an FGISonline customer number and USDA eAuthentication username and password prior to applying.

• To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

READ APPLICATIONS AND COMMENTS: All comments will be available for public inspection online at http://www.regulations.gov. If you would like to view the applications, please contact us at FGISQACD@usda.gov (7 CFR 1.27(c)).

FOR FURTHER INFORMATION CONTACT: Jacob Thein, 816-866-2223 or FGISQACD@usda.gov.

SUPPLEMENTARY INFORMATION: Section 7(f) of the United States Grain Standards Act (USGSA) authorizes the Secretary to designate a qualified applicant to provide official services in a specified area, after determining that the applicant is better able than any other applicant to provide such official services (7 U.S.C. 79 (f)). Under section 7(g) of the USGSA (7 U.S.C. 79(g)), designations of official agencies are effective for no longer than five years, unless terminated by the Secretary, and may be renewed according to the criteria and procedures prescribed in section 7(f) of the USGSA.

Area Open for Designation

Pursuant to Section 7(f)(2) of the USGSA, the following geographic area, in the States of Iowa, Illinois, and Minnesota, is assigned to Mid-Iowa:

In Iowa

Bounded on the north by the northern Winneshiek and Allamakee County lines; bounded on the east by the eastern Allamakee County line; the eastern and southern Clayton County lines; the eastern Buchanan County line; the northern Jones and Jackson County lines; the eastern Jackson and Clinton County lines; southern Clinton County line; the eastern Cedar County line south to State Route 130; bounded on the south by State Route 130 west to State Route 38; State Route 38 south to Interstate 80; Interstate 80 west to U.S. Route 63; and bounded on the west by U.S. Route 63 north to State Route 8; State Route 8 east to State Route 21; State Route 21 north to D38; D38 east to V49; V49 north to Bremer County; the southern Bremer County line; the western Fayette and Winneshiek County lines.

In Illinois

Northern Area: Carroll and Whiteside Counties.

Central Area: Bounded on the north by State Route 18 east to U.S. Route 51; U.S. Route 51 south to State Route 17; State Route 17 east to Livingston County; and the Livingston County line east to State Route 47; bounded on the east by State Route 47 south to State Route 116; State Route 116 west to Pontiac, which intersects with a straight line running north and south through Arrowsmith to the southern McLean County line; the southern McLean County line east to the eastern DeWitt County line; the eastern DeWitt County line; the eastern Macon County line south to Interstate 72; Interstate 72 northeast to the eastern Piatt County line; the eastern Piatt, Moultrie, and Shelby County lines; bounded on the south by the southern Shelby County line; and a straight line running along the southern Montgomery County line west to State Route 16 to a point approximately one mile northeast of Irving; and bounded on the west by a straight line from this point northeast to Stonington on State Route 48; a straight line from Stonington northwest to Elkhart on Interstate 55; a straight line from Elkhart northeast to the west side of Beason on State Route 10; State Route 10 west to the Logan County line; the western Logan County line; the southern Tazewell County line; the western Tazewell County line; the western Peoria County line north to Interstate 74; Interstate 74 southeast to State Route 116; State Route 116 north to State Route 26; and State Route 26 north to State Route 18.

In Minnesota

Fillmore, Houston, Olmstead, Wabasha, and Winona Counties.

The following grain elevators are not part of this geographic area assignment and are assigned to: Champaign-Danville Grain Inspection Departments, Inc.: East Lincoln Farmers Grain Co., Lincoln, Logan County, Illinois; Okaw Cooperative, Cadwell, Moultrie County, Illinois; ADM (3 elevators), Farmer City, DeWitt County, Illinois; and Topflight Grain Company, Monticello, Piatt County, Illinois.

Opportunity for Designation

Interested persons or governmental agencies may apply for designation to provide official services in the geographic area specified above under the provisions of section 7(f) of the USGSA and 7 CFR 800.196. Designation in the specified geographic area in Iowa, Illinois, and Minnesota is for the period beginning July 1, 2020, to June 30, 2025. To apply for designation, please apply at FGISonline (https://fgisonline.ams.usda.gov); or, to request more information, contact Jacob Thein at the address listed above.

Request for Comments

In this designation process, we are requesting comments on the quality of services provided by the Mid-Iowa official agency. We are, also, interested in receiving comments citing reasons and pertinent data supporting or objecting to the designation of an applicant. Such comments should be submitted through the Federal e-rulemaking portal at http://www.regulations.gov.

We consider applications, comments, and other available information when determining which applicants will be designated.

Authority: 7 U.S.C. 71-87k.

Dated: February 4, 2020.
Bruce Summers,
Administrator, Agricultural Marketing Service.

[FR Doc. 2020-02625 Filed 2-7-20; 8:45 am]

BILLING CODE 3410-02-P